DEPARTMENT OF HEALTH AND HUMAN SERVICES

Indian Health Service

Indian Health Professions Preparatory, Indian Health Professions Pregraduate and Indian Health Professions Scholarship Programs

Announcement Type: Initial.

CFDA Numbers: 93.971, 93.123, and 93.972.

Key Dates:

Application Deadline: February 28, 2009, for Continuing students.

Application Deadline: March 28, 2009, for New students.

Application Review: May 4-8, 2009.

Application Notification: First week of July, 2009.

Award Start Date: August 1, 2009.

I. Funding Opportunity Description

The Indian Health Service (IHS) is committed to encouraging American Indians and Alaska Natives to enter the health professions and to assuring the availability of Indian health professionals to service Indians. The IHS is committed to the recruitment of students for the following programs:

• The Indian Health Professions Preparatory Scholarship authorized by section 103 of the Indian Health Care Improvement Act (IHCIA), as amended.

• The Indian Health Professions Pregraduate Scholarship authorized by section 103 of the IHCIA, as amended.

• The Indian Health Professions Scholarship authorized by section 104 of the IHCIA, as amended.

Full-time and part-time scholarships will be funded for each of the three scholarship programs.

II. Award Information

Awards under this initiative will be administered using the grant mechanism of the IHS.

Estimated Funds Available: An estimated $14.0 million will be available for FY 2009 awards. The IHS program anticipates, but cannot guarantee, due to possible funding changes, student scholarship selections from any or all of the following disciplines in the 103, 103P and 104 Programs for the Scholarship Period 2009-2010. Anticipated Number of Awards: Approximately 127 awards will be made under the Health Professions Preparatory and Pregraduate Scholarship Programs for Indians. The awards are for ten months in duration and the average award to a full-time student is approximately $29,171. An estimated 210 awards will be made under the Indian Health Professions Scholarship Program. The awards are for 12 months in duration and the average award to a full-time student is approximately $54,262. In FY 2009, an estimated $9,000,000 is available for continuation awards, and an estimated $5,000,000 is available for new awards.

Project Period—The project period for the Health Professions Preparatory Scholarship support is limited to two years for full-time students and the part-time equivalent of two years, not to exceed four years for part-time students. The project period for the Health Professions Pregraduate Scholarship support is limited to four years for full-time students and the part-time equivalent of four years, not to exceed eight years for part-time students. The Indian Health Professions Scholarship support is limited to four years for full-time students and the part-time equivalent of four years, not to exceed eight years for part-time students.

III. Eligibility Information

This announcement is a limited competition for awards made to American Indians (Federally recognized Tribal members, state recognized Tribal members, and first and second degree descendants of state recognized Tribal members), or Alaska Natives only.

1. Eligible Applicants

The Health Professions Preparatory Scholarship awards are made to American Indians (Federally recognized Tribal members, first and second degree descendants of Tribal members, and state recognized Tribal members, first and second degree descendants of Tribal members), or Alaska Natives who:

• Have successfully completed high school education or high school equivalency;

• Have been accepted for enrollment in a compensatory, pre-professional general education course or curriculum; and

The Health Pregraduate Scholarship awards are made to American Indians (Federally recognized Tribal members, first and second degree descendants of Tribal members, and state recognized Tribal members, first and second degree descendants of Tribal members), or Alaska Natives who:

• Have successfully completed high school education or high school equivalency; and

• Have been accepted for enrollment or are enrolled in an accredited pregraduate program leading to a baccalaureate degree in pre-medicine, pre-dentistry, pre-podiatry or pre-optometry.

The Indian Health Professions Scholarship may be awarded only to an individual who is a member of a Federally recognized Indian Tribe or Alaska Native as provided by section 4(c) and 4(d) of the IHCIA. Membership in a Tribe recognized only by a state does not meet this statutory requirement. To receive an Indian Health Professions Scholarship, an otherwise eligible individual must be enrolled in an appropriately accredited school and pursuing a course of study in a health profession as defined by section 4(n) of the IHCIA.

2. Cost Sharing/Matching

The Scholarship Program does not require matching funds or cost sharing to participate in the competitive grant process.

IV. Application Submission Information

1. Address to Request Application Package

Applicants are responsible for contacting and requesting an application packet from their IHS Area Scholarship Coordinator. They are listed on the IHS Web site at http://www.ihs.gov/JobsCareerDevelop/DHPS/Scholarships/SCoordinator_Directory.asp. This information is listed below. Please review the following list to identify the appropriate IHS Area Scholarship Coordinator for your State. Application packets may be obtained by calling or writing to the following individuals listed below:

IHS area office and states/locality served | Scholarship coordinator address
Aberdeen Area IHS: Iowa Nebraska North Dakota South Dakota | Ms. Kim Annis, IHS Area Scholarship Coordinator, Aberdeen Area IHS, 115 4th Avenue, SE, Aberdeen, SD 57401, Tele: (605) 226-7466.
Alaska Native Tribal Health Consortium: Alaska | Ms. Krista Ruesch, Alternate: Ms. Wendy Perrell, IHS Area Scholarship Coordinator, 4000 Ambassador Drive, Anchorage, AK 99508, Tele: (907) 729-1348 or (907) 729-1352, 1-800-684-8361 (toll free).
Albuquerque Area IHS: Colorado New Mexico | Ms. Cora Boone, IHS Area Scholarship Coordinator, Albuquerque Area IHS, 5300 Homestead Road, NE, Albuquerque, NM 87110, Tele: (505) 248-4418.
Bemidji Area IHS: Illinois Indiana Michigan Minnesota Wisconsin | Mr. Tony Buckanaga, IHS Area Scholarship Coordinator, Bemidji Area IHS, 522 Minnesota Avenue, NW, Room 209, Bemidji, MN 56601, Tele: (218) 444-0486.
Billings Area IHS: Montana Wyoming | Mr. Delon Rock Above, Alternate: Ms. Bernice Hugs, IHS Area Scholarship Coordinator, Billings Area IHS, Area Personnel Office, P.O. Box 36600, 2900 4th Avenue, North, Suite 400, Billings, MT 59103, Tele: (406) 247-7100.
California Area IHS: California Hawaii | Ms. Mona Celli, IHS Area Scholarship Coordinator, California Area IHS, 650 Capitol Mall, Suite 7-100, Sacramento, CA 95814, Tele: (916) 930-3981.
Nashville Area IHS: Alabama Arkansas Connecticut Delaware Florida Georgia Kentucky Louisiana Maine Maryland Virginia Mississippi District of Columbia New Hampshire New Jersey New York North Carolina Ohio Pennsylvania Rhode Island South Carolina Tennessee Vermont West Virginia Massachusetts | Ms. Gina Blackfox, IHS Area Scholarship Coordinator, Nashville Area IHS, 711 Stewarts Ferry Pike, Nashville, TN 37214, Tele: (615) 467-1500.
Navajo Area IHS: Arizona New Mexico Utah | Ms. Roselinda Allison, IHS Area Scholarship Coordinator, Navajo Area IHS, P.O. Box 9020, Window Rock, AZ 86515, Tele: (928) 871-1358.
Oklahoma City Area IHS: Kansas Missouri Oklahoma | Ms. Melissa Langley, IHS Area Scholarship Coordinator, Oklahoma City Area IHS, Five Corporate Plaza, 3625 N.W. 56th Street, Oklahoma City, OK 73112, Tele: (405) 951-6040.
Phoenix Area IHS: Arizona Nevada Utah | Ms. Kimberly Honahnie, IHS Area Scholarship Coordinator, Phoenix Area IHS, Two Renaissance Square, 40 North Central Avenue, Suite 510, Phoenix, AZ 85004, Tele: (602) 364-5253.
Portland Area IHS: Idaho Oregon Washington | Ms. Laurie Veitenheimer, IHS Area Scholarship Coordinator, Portland Area IHS, 1220 S.W. Third Avenue, Room 476, Portland, OR 97204-2892, Tele: (503) 326-6983.
Tucson Area IHS: Arizona Texas | Ms. Kimberly Honahnie (See Phoenix Area).

1. Content and Form Submission

Each applicant will be responsible for submitting a completed application (Forms IHS-856-1, through 856-8) and one copy to their IHS Area Scholarship Coordinator. Electronic applications are being accepted for this cycle. Go to www.scholarship.ihs.gov for more information on how to apply electronically. The application will be considered complete if the following documents (original and one copy) are included.

• Completed and signed application Checklist.

• Original Signed complete application form IHS-856 (for continuation students—Data Sheet in place of IHS-856).

• Current Letter of Acceptance from College/Proof of application to Health Professions Program.

• Official transcripts for all colleges (or high school transcripts for applicants who have not taken college courses).

• Cumulative GPA: Applicants calculations.

• Documents for Indian Eligibility.

A. If you are a member of a Federally recognized Tribe or Alaska Native (recognized by the Secretary of the Interior), provide evidence of membership such as:

(1) Certification of Tribal enrollment by the Secretary of the Interior, acting through the Bureau of Indian Affairs (BIA Certification: Form 4432—Category A or D, whichever is applicable); or

(2) In the absence of BIA certification, documentation that you meet requirements of Tribal membership as prescribed by the charter, articles of incorporation or other legal instrument of the Tribe and have been officially designated as a Tribal member as evidenced by an accompanying document signed by an authorized Tribal official, or

(3) Other evidence of Tribal membership satisfactory to the Secretary of the Interior.

B. If you are a member of a Tribe terminated since 1940 or a State recognized Tribe and first or second degree descendant, provide official documentation that you meet the requirements of Tribal membership as prescribed by the charter, articles of incorporation or other legal instrument of the Tribe and have been officially designated as a Tribal member as evidenced by an accompanying document signed by an authorized Tribal official; or other evidence, satisfactory to the Secretary of the Interior, that you are a member of the Tribe. In addition, if the terminated or state recognized Tribe of which you are a member is not on a list of such Tribes published by the Secretary of the Interior in the Federal Register, you must submit an official signed document that the Tribe has been terminated since 1940 or is recognized by the state in which the Tribe is located in accordance with the law of that state.

C. If you are not a Tribal member but are a natural child or grandchild of a Tribal member, from a Federally recognized tribe, you must submit: (1) Evidence of that fact, e.g., your birth certificate and/or your parent's birth certificate showing the name of the Tribal member; and (2) evidence of your parent's or grandparent's Tribal membership in accordance with paragraphs A and B. The relationship to the Tribal member must be clearly documented. Failure to submit the required documentation will result in the application not being accepted for review.

Note: If you meet the criteria of B or C you are eligible only for the Preparatory or Pregraduate Scholarships.

• Two Faculty/Employee Evaluations with original signature.

• Reasons for Requesting the Scholarship.

• Delinquent Debt Form.

• 2009 W-4 Form with original signature.

• Course Curriculum Verification with original signature.

• Acknowledgement Card.

• Curriculum for Major.

Health Professions Applicants Only:

• Health Related Experience (MPH only)—Optional Form.

3. Submission Dates and Times

Application Receipt Date: The application deadline for new applicants is Saturday, March 28, 2009. Applications (original and one copy) shall be considered as meeting the deadline if they are received by the appropriate IHS Area Scholarship Coordinator on the deadline date or postmarked on or before the deadline date. Applicants should request a legibly dated U.S. Postal Service postmark or obtain a legibly dated receipt from a commercial carrier or U.S. Postal Service. Private metered postmarks will not be acceptable as proof of timely mailing and will not be considered for funding. Once the application is received, the applicant will receive an “Acknowledgement of Receipt of Application” (IHS-815) card that is included in the application packet.

4. Intergovernmental Review

Executive Order 12372 requiring intergovernmental review is not applicable to this program.

5. Funding Restrictions

No more that 5% of available funds will be used for part-time scholarships this fiscal year. Students are considered part-time if they are enrolled for a minimum of six hours of instruction and are not considered in full-time status by their college/university. Documentation must be received from part-time applicants that their school and course curriculum allows less that full-time status. Both part-time and full-time scholarship awards will be made in accordance with 42 CFR Parts 136.320, 136.330 and 136.370 incorporated in the application materials; and for Health Professions Scholarship Program for Indians.

6. Other Submissions Requirements

New Applicants are responsible for contacting and requesting an application packet from their IHS Area Scholarship Coordinator. The Division of Grant Operations will mail continuation students an application packet. If you do not receive this information please contact your IHS Area Scholarship Coordinator to request a continuation application.

Continuing students must submit a complete application (original plus one copy) and meet the deadline of Saturday, February 28, 2009; there will be no exceptions.

V. Application Review Information

1. Criteria

Applications will be reviewed and scored with the following criteria.

• Needs of the IHS (health personnel needs in Indian Country) (30 points)

Applicants are considered for scholarship awards based on their desired career goals and how these goals relate to current Indian health personnel needs. Applications for each health career category are reviewed and ranked separately.

• Academic Performance (40 points)

Applicants are rated according to their academic performance as evidenced by transcripts and faculty evaluations. In cases where a particular applicant's school has a policy not to rank students academically, faculty members are asked to provide a personal judgment of the applicant's achievement. Health Professions applicants with a cumulative GPA below 2.0 are not eligible for award.

• Faculty/Employer Recommendations (30 points)

Applicants are rated according to evaluations by faculty members, current and/or former employers and Tribal officials regarding the applicant's potential in the chosen health related professions.

• Stated Reasons for Asking for the Scholarship and Stated Career Goals (30 points)

Applicants must provide a brief written explanation of reasons for asking for the scholarship and of their career goals. The applicant's narrative will be judged on how well it is written and its content.

• Applicants who are closest to graduation or completion of training are awarded first. For example, senior and junior applicants under the Health Professions Pregraduate Scholarship receives funding before freshmen and sophomores.

• Priority Categories

The following is a list of health professions that will be considered for funding in each scholarship program in FY 2009.

• Indian Health Professions Preparatory Scholarships

A. Pre-Clinical Psychology (Jr. and Sr. undergraduate years).

B. Pre-Dietetics (Jr. and Sr. undergraduate years).

C. Pre-Medical Technology (Jr. and Sr. undergraduate years).

D. Pre-Nursing.

E. Pre-Occupational Therapy.

F. Pre-Pharmacy.

G. Pre-Physical Therapy (Jr. and Sr. undergraduate years).

H. Pre-Social Work (Jr. and Sr. undergraduate years).

• Indian Health Professions Pregraduate Scholarships

A. Pre-Dentistry.

B. Pre-Medicine.

C. Pre-Podiatiy.

D. Pre-Optometry.

• Indian Health Professions Scholarship

A. Chemical Dependency Counseling: Baccalaureate and Master's Level.

B. Clinical Psychology: PhD Program.

C. Dental Hygiene: B.S.

D. Dentistry: D.D.S. and D.M.D.

E. Diagnostic Radiology Technology: Certificate, Associates and B.S.

F. Dietitian: B.S.

G. Environmental Health & Engineering: B.S.

H. Health Records: R.H.I.T. and R.H.I.A.

I. Medical Technology: B.S.

J. Medicine: Allopathic and Osteopathic.

K. Nurse: Associate and Bachelor Degrees and advanced degrees in Psychiatry, Geriatric, Women's Health, Pediatric Nursing, Nurse Anesthetist, and Nurse Practitioner.

*(Priority consideration will be given to Registered Nurses employed by the IHS; in a program conducted under a contract or compact entered into under the Indian Self-Determination Act and Education Assistance Act (Pub. L. 93-638) and its amendments; or in a program assisted under Title V of the IHCIA).

L. Occupational Therapy: B.S. or Masters.

M. Optometry: O.D.

N. Pharmacy: Pharm.D.

O. Physician Assistant: PAC.

P. Physical Therapy Assistant: Associate Degree.

Q. Physical Therapy: M.S. and D.P.T.

R. Podiatry: D.P.M.

S. Respiratory Therapy: BS Degree.

T. Social Work: Masters Level only (Direct Practice and Clinical concentrations).

U. Ultrasonography (Prerequisite: Diagnostic Radiology Technology).

2. Review and Selection Process

The applications will be reviewed and scored by the JHS Scholarship Program's Application Review Committee appointed by the IHS. Each reviewer will not be allowed to review an application from his/her area or his/her own Tribe. Each application will be reviewed by three reviewers. The average score of the three reviews provides the final Ranking Score for each applicant. To determine the ranking of each applicant, these scores are sorted from the highest to the lowest within each scholarship, health discipline, date of graduation, and score. If several students have the same date of graduation and score within the same discipline, computer ranking list will randomly sort and will not be sorted by alphabetical name. Selections for recommendations to the Director, IHS, are then made from the top of each ranking list to the extent that funds allocated by the IHS among the three scholarships are available for obligation.

VI. Award Administration Information

1. Award Notices

It is anticipated that applicants will be notified in writing during the first week of July 2009. An Award Letter will be issued to successful applicants. Unsuccessful applicants will be notified in writing, which will include a brief explanation of the reasons the application was not successful and provide the name of the IHS official to contact if more information is desired.

2. Administrative and National Policy Requirements

Regulations at 42 CFR 136.304 provide that the IHS shall, from time to time, publish a list of health professions eligible for consideration for the award of Indian Health Professions Preparatory and Pregraduate Scholarships and Indian Health Professions Scholarship. Section 104(b)(1) of the IHCIA, as amended by the Indian Health Care Amendment of 1988, Public Law 100-713, authorizes the IHS to determine specific health professions for which Indian Health Scholarships will be awarded.

Awards for the Indian Health Professions Scholarships will be made in Accordance with 42 CFR 136.330.

Recipients shall incur a service obligation prescribed under section 338A of the Public Health Service Act (42 U.S.C. 2541) which shall be met by service:

(1) In the IHS;

(2) in a program conducted under a contract or compact entered into under the Indian Self-Determination Act and Education Assistance Act (Pub. L. 93-638) and its amendments;

(3) in a program assisted under Title V of the Indian Health Care Improvement Act (Pub. L. 94-437) and its amendments; or

(4) in a private practice option of his or her profession, if the practice (a) is situated in a health professional shortage area, designated in regulations promulgated by the Secretary of Health and Human Services (Secretary) and (b) addresses the health care needs of a substantial number (51%) of Indians as determined by the Secretary in accordance with guidelines of the Service.

Pursuant to the Indian Health Amendments of 1992, (Pub. L. 102-573), a recipient of an Indian Health Professions Scholarship may, at the election of the recipient, meet his/her active duty service obligation prescribed under section 338A of the Public Health Service Act (42 U.S.C. 2541) by a program specified in options (1)(4) above that:

(i) Is located on the reservation of the Tribe in which the recipient is enrolled; or

(ii) Serves the Tribe in which the recipient is enrolled.

In summary, all recipients of the Indian Health Professions Scholarship are reminded that recipients of this scholarship incur a service obligation. Moreover, this obligation shall be served at a facility determined by the Director, IHS, consistent with IHCIA, Public Law 94-437, as amended by Public Law 100-713, and Public Law 102-573.

3. Reporting

Scholarship Program Minimum Academic Requirements

It is the policy of the IHS that a scholarship recipient awarded under the Health Professions Scholarship Program of the Indian Health Care Improvement Act maintain a 2.0 cumulative grade point average (GPA) each semester/quarter and maintain full-time student status (minimum of 12 credit hours considered by your school as full-time). A recipient of a scholarship under the Health Professions Pre-Graduate and Health Professions Preparatory Scholarship authority must maintain good academic standing each semester/quarter and be a full-time student (minimum of 12 credit hours or the number of credit hours considered by your school as full time). In addition to the two requirements stated above, a Health Professions Scholarship program grantee must be enrolled in an approved/accredited school for a health professions degree. Part-time students for the three scholarship programs must also maintain a 2.0 cumulative GPA and must take at least six credit hours each semester/quarter but less than the number of hours considered full-time by your school. Scholarship grantees must be approved for part-time status at the time of scholarship award. Scholarship grantees may not change from part-time status to full-time status or vice versa in the same academic year.

The following reports must be sent to the IHS Scholarship Program at the identified time frame. Each scholarship grantee will be provided with an IHS Scholarship Handbook where the needed reports are located. If a scholarship grantee fails to submit these reports as required, they will be ineligible for continuation of scholarship support and scholarship award payments will be discontinued.

A. Recipient's Enrollment and Initial Progress Report Within thirty (30) days from the beginning of each semester or quarter, scholarship grantees must submit a Recipient's Enrollment and Initial Progress Report (Form IHS-856-10, page 63 of the student handbook).

B. Transcripts

Within thirty (30) days from the end of each academic period, i.e., semester, quarter, or summer session, scholarship grantees must submit an Official Transcript showing the results of the classes taken during that period.

C. Notification of Academic Problem/Change

If at any time during the semester/quarter, scholarship grantees are advised to reduce the number of credit hours for which they are enrolled below the minimum of the 12 (or the number of hours considered by their school as full time) for a full-time student or at least six hours for part-time students; or if they experience academic problems, they must submit this report (Form IHS 856-11, page 65 of the student handbook).

D. Change of Status

• Change of Academic Status

Scholarship Grantees must immediately notify the IHS Area Scholarship Coordinator if they are placed on academic probation, dismissed from school, or voluntarily withdraw for any reason (personal or medical).

• Change of Health Discipline

Scholarship Grantees may not change from the approved IHS Scholarship Program health discipline during the school year. If an unapproved change is made, scholarship payments will be discontinued.

• Change in Graduation Date

Any time that a change occurs in a scholarship grantee's expected graduation date, they must notify their 1115 Area Scholarship Coordinator immediately in writing. Justification must be attached from the school advisor.

VII. Agency Contacts

Please address application inquiries to the appropriate IHS Area Scholarship Coordinator. Other programmatic inquiries may be addressed to Dr. Dawn Kelly, Chief, Scholarship Program, 801 Thompson Avenue, Suite 120, Rockville, Maryland 20852; Telephone (301) 443-6622. (This is not a toll-free number). For grants information, contact the Grants Scholarship Coordinator, Division of Grants Operations, Indian Health Service, 801 Thompson Avenue, Suite 120, Rockville, Maryland 20852; Telephone (301) 443-0243. (This is not a toll-free number).

VIII. Other Information

The Public Health Service (PHS) is committed to achieving the health promotion and disease prevention objectives of Healthy People 2010, a PHS-led activity for setting priority areas. This program announcement is related to the priority area of Education and Community-Based Programs. Potential applicants may obtain a copy of Healthy People 2010, (Full Report; Stock No. 017-001-00474-0) or Healthy People 2010 (Summary Report, Stock No. 017-001-00473-1) through the Superintendent of Documents, Government Printing Office, Washington, DC 20402-9325 [Telephone (202) 783-3238].

Interested individuals are reminded that the list of eligible health and allied professions is effective for applicants for the 2009-2010 academic year. These priorities will remain in effect until superseded. Applicants for health and allied health professions not on the above priority list will be considered pending the availability of funds and dependent upon the availability of qualified applicants in the priority areas.

Dated: February 19, 2009.
Robert G. McSwain,
Director, Indian Health Service.

[FR Doc. E9-3941 Filed 2-24-09; 8:45 am]

BILLING CODE 4165-16-M